DEPARTMENT OF AGRICULTURE

National Agricultural Statistics Service

Notice of Intent To Seek Approval To Reinstate an Information Collection; Correction

AGENCY: National Agricultural Statistics Service, USDA.

ACTION: Notice; correction.

SUMMARY: In accordance with the Paperwork Reduction Act of 1995, this notice announces a correction to the intention of the National Agricultural Statistics Service (NASS) to seek reinstatement of an information collection, the 2023 Irrigation and Water Management Survey.

DATES: Comments on this notice must be received by May 1, 2023 to be assured of consideration.

ADDRESSES: You may submit comments, identified by docket number 0535-0234, by any of the following methods:

• Email: ombofficer@nass.usda.gov. Include the docket number above in the subject line of the message.

• E-fax: (855) 838-6382.

• Mail: Mail any paper, disk, or CD-ROM submissions to: Richard Hopper, NASS Clearance Officer, U.S. Department of Agriculture, Room 5336 South Building, 1400 Independence Avenue SW, Washington, DC 20250-2024.

• Hand Delivery/Courier: Hand deliver to: Richard Hopper, NASS Clearance Officer, U.S. Department of Agriculture, Room 5336 South Building, 1400 Independence Avenue SW, Washington, DC 20250-2024.

SUPPLEMENTARY INFORMATION:

Correction

In the Federal Register of February 16, 2023, in FR Doc. 2023-03290, on page 10078, correct the SUPPLEMENTARY INFORMATION caption, paragraph 1, under the Abstract section, to read:

Abstract: The 2023 Irrigation and Water Management Survey is conducted every 5 years as authorized by the Census of Agriculture Act of 1997 (Pub. L. 105-113). The 2023 Irrigation and Water Management Survey will use a combined probability sample of all farms and horticultural operations that reported irrigation and/or irrigation equipment on the 2022 Census of Agriculture. This irrigation survey aims to provide a comprehensive inventory of farm irrigation practices with detailed data relating to acres irrigated by category of land use, quantity of water applied, and method of application to selected crops. The 2023 survey will also collect expenditures for maintenance and repair of irrigation equipment and facilities; purchase of energy for on-farm pumping of irrigation water; investment in irrigation equipment, facilities, and land improvement; cost of water received from off-farm water supplies; and questions related to water reuse. The irrigation questions for horticultural specialties will provide the area irrigated in the open and under protection, source of water, and the irrigation method used at the State level and by 20 Water Resource Regions (WRR). The survey will publish tables showing the total estimated quantity of water applied, including one for crops. Irrigation data items are used by farmers, farming representatives, government agencies, and many other groups concerned with the irrigation industry and water use. This survey will provide the only source of dependable, comparable irrigation data by State and Water Resources Region (WRR). The National Agricultural Statistics Service will use the information collected only for statistical purposes and will publish the data only as aggregate totals.

Signed at Washington, DC, February 23, 2023.
Yvette Anderson,
Federal Register Liaison Officer, ARS, ERS, NASS.

[FR Doc. 2023-04117 Filed 2-28-23; 8:45 am]

BILLING CODE 3410-20-P